NATIONAL ARCHIVES AND RECORDS ADMINISTRATION

[NARA-2021-026]

Agency Information Collection Activities: Proposed Collection; Comment Request

AGENCY: National Archives and Records Administration (NARA).

ACTION: Notice of proposed extension request.

SUMMARY: We are proposing to request an extension from the Office of Management and Budget (OMB) of a currently approved information collection, “Use of NARA Official Seals and Logos.” Members of the public and other Federal agencies provide information under this collection as part of their requests to use our official seal(s) and logo(s). We invite you to comment on this proposed information collection pursuant to the Paperwork Reduction Act of 1995.

DATES: We must receive written comments on or before August 10, 2021.

ADDRESSES: Send comments by email to tamee.fechhelm@nara.gov. Because our buildings are temporarily closed during the COVID-19 restrictions, we are not able to receive comments by mail during this time.

FOR FURTHER INFORMATION CONTACT: Tamee Fechhelm, Paperwork Reduction Act Officer, by email at tamee.fechhelm@nara.gov or by telephone at 301.837.1694 with requests for additional information or copies of the proposed information collection and supporting statement.

SUPPLEMENTARY INFORMATION: Pursuant to the Paperwork Reduction Act of 1995 (Pub. L. 104-13), we invite the public and other Federal agencies to comment on proposed information collections. If you have comments or suggestions, they should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether this collection affects small businesses.

We will summarize any comments you submit and include the summary in our request for OMB approval. All comments will become a matter of public record.

In this notice, we solicit comments concerning the following information collection:

Title: Use of NARA Official Seals and Logos.

OMB number: 3095-0052.

Agency form number: N/A.

Type of review: Regular.

Affected public: Business or other for-profit, not-for-profit institutions, Federal Government.

Estimated number of respondents: 37.

Estimated time per response: 15 minutes.

Frequency of response: On occasion.

Estimated total annual burden hours: 9 hours.

Abstract: The authority for this information collection is contained in 36 CFR 1200.8. NARA's three official seals are the National Archives and Records Administration seal; the National Archives seal; and the Nationals Archives Trust Fund Board seal. The official seals are used to authenticate various copies of official records in our custody and for other official NARA business. We also have an official NARA logo, and other official program and office logos (such as the Federal Register logo, Presidential library logos, Controlled Unclassified Information logo, National Historical Publications and Records Center logo, and more). Occasionally, when criteria are met, we will permit the public or other Federal agencies to use our official seals and logos. The requestor must submit a written request, that includes certain information outlined in 36 CFR 1200, to use the official seals and logos. We approve or deny the request using specific criteria, also outlined in the regulation.

Swarnali Haldar,
Executive for Information Services/CIO.

[FR Doc. 2021-12268 Filed 6-10-21; 8:45 am]

BILLING CODE 7515-01-P